COMMISSION ON CIVIL RIGHTS

Agenda and Notice of Public Meeting of the Maine Advisory Committee

Notice is hereby given, pursuant to the provisions of the rules and regulations of the U.S. Commission on Civil Rights, that a meeting of the Maine Advisory Committee to the Commission will convene at 2 p.m. and adjourn at 6:30 p.m. on Thursday, May 11, 2000, at the Holiday Inn By The Bay, 88 Spring Street, Portland, Maine 04101. The Committee will plan the press release of its report, Limited English Proficient Students in Maine: An Assessment of Equal Educational Opportunities, and discuss future program activities. In addition, the Committee will be briefed by invited civil rights advocates on the status of civil rights issues in Maine.

Persons desiring additional information, or planning a presentation to the Committee, should contact Committee Chairperson Gerald Talbot, 207-287-5984, or Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, April 17, 2000.
Lisa M. Kelly,
Special Assistant to the Staff Director.

[FR Doc. 00-10046 Filed 4-21-00; 8:45 am]

BILLING CODE 6335-01-P